NUCLEAR REGULATORY COMMISSION

[Docket No. 50-286]

Power Authority of the State of New York Indian Point Nuclear Generating Unit No. 3; Issuance of Director's Decision Under 10 CFR 2.206

By letter dated February 10, 2000, Mr. David A. Lochbaum, on behalf of the Union of Concerned Scientists (Petitioner), pursuant to Section 2.206 of Title 10 of the Code of Federal Regulations (10 CFR 2.206), requested that the U.S. Nuclear Regulatory Commission (Commission or NRC) take action with regard to the Indian Point Nuclear Generating Unit No. 3 (IP3), owned and operated by the Power Authority of the State of New York (PASNY). The Petitioner requested that the NRC order PASNY to assess the corrective action process and the work environment at IP3 and to take timely actions to remedy any deficiencies it may identify.

The Director of the Office of Nuclear Reactor Regulation has addressed the technical concerns provided by the Petitioner. However, the Petitioner's request for the staff to take enforcement action was not granted for the reasons that are explained in the “Director's Decision Pursuant to 10 CFR 2.206” (DD-00-03). The complete text of the Director's Decision is available for public inspection at the Commission's Public Document Room located in the Gelman Building, 2120 L Street, NW., Washington, DC., and will be accessible electronically from the agencywide documents access and management system (ADAMS) public library component on the NRC Web site, http://www.nrc.gov (the electronic reading room).

A copy of the Decision will be filed with the Secretary of the Commission for the Commission's review in accordance with 10 CFR 2.206(c) of the Commission's regulations. As provided for by this regulation, the Decision will constitute the final action of the Commission 25 days after the date of issuance of the Decision unless the Commission, on its own motion, institutes a review of the Decision within that time.

Dated at Rockville, Maryland, this 26th day of July 2000.
For the Nuclear Regulatory Commission.
Samuel J. Collins,
Director,, Office of Nuclear Reactor Regulation.

[FR Doc. 00-19392 Filed 7-31-00; 8:45 am]

BILLING CODE 7590-01-P